DEPARTMENT OF TRANSPORTATION

Federal Aviation Administration

Notice of Intent To Rule on Request To Release Airport Property at Oceano Airport, Oceano, CA

AGENCY: Federal Aviation Administration (FAA), DOT.

ACTION: Notice of request to release airport property.

SUMMARY: The Federal Aviation Administration (FAA) proposes to rule and invites public comment on the release of 2.43 acres of land at the Oceano Airport, Oceano, California, from all the conditions in the grant agreements under the provisions of Section 125 of the Wendell H. Ford Aviation Investment Reform Act for the 21st Century (AIR 21), now 49 U.S.C. 47107(h)(2). The land will be sold to the San Luis Obispo County Sanitation District and used for commercial purposes by the District for purposes compatible with the airport.

DATES: Comments must be received on or before October 9, 2007.

ADDRESSES: Comments on this application may be mailed or delivered in triplicate to the FAA at the following address: Federal Aviation Administration, San Francisco Airports District Office, Federal Register Comment, 831 Mitten Road, Room 210, Burlingame, CA 94010. In addition, one copy of any comments submitted to the FAA must be mailed or delivered to Ms. Klassje Narine, Airport Manager, County of San Luis Obispo, 1087 Santa Rosa Street, San Luis Obispo, CA 93401, (805) 781-5205.

FOR FURTHER INFORMATION CONTACT: Mr. Racior Cavole, Airports Compliance Specialist, San Francisco Airports District Office, Western-Pacific Region, Federal Aviation Administration, 831 Mitten Road, Burlingame, California 94010. Telephone (650) 876-2778, extension 627.

SUPPLEMENTARY INFORMATION: In accordance with the Wendell H. Ford Aviation Investment and Reform Act for the 21st Century (AIR 21), Public Law 10-181 (Apr. 5, 2000; 114 Stat. 61), this notice must be published in the Federal Register 30 days before the Secretary may waive any condition in grant agreements imposed on a federally obligated airport.

The FAA invites public comment on the request to release 2.43 acres of airport property from all federal obligations. The FAA determined that the County of San Luis Obispo request to release property meets the procedural requirements for a release, pending approval of an environmental analysis. The FAA may approve the request in whole or in part and is seeking public comments on the impacts to civil aviation concerning this release.

The following is a brief overview of the request:

The County of San Luis Obispo requested a release from surplus property agreement obligations for approximately 2.43 acres of airport land at the Oceano Airport for land obligated by the conditions in grant agreements with the United States that required the land be used for airport purposes. The release is to facilitate a transfer of fee ownership of one parcel and a grant of an easement over another parcel that are part of Oceano Airport. This request is the result of Eminent Domain proceedings brought by the South San Luis Obispo County Sanitation District through the Superior Court of the State of California to acquire the land by condemnation. The Stipulation for Judgment requires that the County of San Luis Obispo apply to the FAA for a proper release of the subject parcels. As compensation, the District will pay the agreed upon settlement of $282,875 representing the fair market value of the property.

The property release consists of two parcels. Parcel “A,” containing 1.76 acres, will be conveyed in fee simple. Parcel “B,” containing 0.67 acres, will be granted as a non-exclusive easement of airport property over which the District will have access to Parcel “A.” The property is needed by the South San Luis Obispo County Sanitation District for the operation of its plant and bio-solids drying ponds and to ensure access to its existing property adjacent to the airport. It has been determined that the property is not needed for airport purposes. Use of the sale proceeds of $282,875 will be invested in airport capital improvements, thereby serving the interest of the airport and civil aviation.

Issued in Burlingame, California on August 16, 2007.
Edward N. Agnew,
Acting Manager, San Francisco District Office, Western-Pacific Region.

[FR Doc. 07-4325 Filed 9-5-07; 8:45 am]

BILLING CODE 4910-13-M